DEPARTMENT OF HOMELAND SECURITY

Bureau of Customs and Border Protection

Retraction of Revocation Notice

AGENCY: Bureau of Customs and Border Protection, U.S. Department of Homeland Security.

ACTION: General notice.

SUMMARY: The following Customs broker license was erroneously included in a list of revoked Customs broker licenses.

Name | License | Port name
Lawrence J. Tobia | 12614 | New York.

Customs broker license No. 12614 remains valid.

Dated: April 26, 2004.
Jayson P. Ahern,
Assistant Commissioner, Office of Field Operations.

[FR Doc. 04-10062 Filed 5-3-04; 8:45 am]

BILLING CODE 4820-02-P